DEPARTMENT OF THE TREASURY

Office of Foreign Assets Control

[Case ID DPRK2-12505]

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT:

OFAC: Associate Director for Global Targeting, tel.: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Actions

On December 10, 2018, OFAC determined that the property and interests in property subject to U.S. jurisdiction of the following persons are blocked under the relevant sanctions authority listed below.

Individuals

1. CHOE, Ryong Hae (a.k.a. CH'OE, Ryong-hae); DOB 15 Jan 1950; Gender Male; Secondary sanctions risk: North Korea Sanctions Regulations, sections 510.201 and 510.210; Director of the Workers' Party of Korea Organization and Guidance Department (individual) [DPRK2].

Designated pursuant to Section 1(a)(iii) of Executive Order 13687 of January 2, 2015, “Imposing Additional Sanctions with Respect to North Korea” (E.O. 13687) for being an official of the Workers' Party of Korea.

2. JONG, Kyong Thaek (a.k.a. CHO'NG, Kyo'ng-t'aek), Pyongyang, Korea, North; DOB 01 Jan 1961 to 31 Dec 1963; Gender Male; Secondary sanctions risk: North Korea Sanctions Regulations, sections 510.201 and 510.210; Minister of State Security (individual) [DPRK2].

Designated pursuant to Section 1(a)(ii) of E.O. 13687 for being an official of the Government of North Korea.

Also designated pursuant to Section 1(a)(iii) of E.O. 13687 for being an official of the Workers' Party of Korea.

3. PAK, Kwang Ho (a.k.a. PAK, Kwang-ho); DOB 01 Jan 1946 to 31 Dec 1948; Gender Male; Secondary sanctions risk: North Korea Sanctions Regulations, sections 510.201 and 510.210; Director of the Propaganda and Agitation Department (individual) [DPRK2].

Designated pursuant to Section 1(a)(iii) of E.O. 13687 for being an official of the Workers' Party of Korea.

Andrea Gacki,
Director, Office of Foreign Assets Control.

[FR Doc. 2018-27453 Filed 12-18-18; 8:45 am]

BILLING CODE 4810-AL-P